DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Kenneth Walker, Ph.D., University of Pittsburgh: Based on the admission of the Respondent, ORI found that Dr. Kenneth Walker, former postdoctoral fellow, Department of Pediatrics, University of Pittsburgh (UP), engaged in research misconduct in research supported by National Institute of Diabetes and Digestive and Kidney Diseases (NIDDK), National Institutes of Health (NIH), grant R01 DK081128.

ORI found that Respondent engaged in research misconduct by falsifying and/or fabricating data that were included in the following two (2) publications, one (1) submitted manuscript, and two (2) grant applications submitted to NIDDK, NIH:

• “Deletion of fibroblast growth factor receptor 2 from the peri-wolffian duct stroma leads to ureteric induction abnormalities and vesicoureteral reflux.” PLoS One 8(2):e56062, 2013 (hereafter referred to as “PLoS 2013”)

• “Fgfr2 is integral for bladder mesenchyme patterning and function.” Am J Physiol Renal Physiol. 308(8):F888-98, 2015 Apr 15 (hereafter referred to as “AJPRP 2015”)

• Unpublished manuscript submitted to PLoS One (hereafter referred to as the “Manuscript”)

• R01 DK104374-01A1

• R01 DK109682-01

Specifically, ORI found that Respondent falsified and/or fabricated quantitative real-time polymerase chain reaction (qPCR) data to demonstrate a statistically significant or “trend” of statistical difference in the expression of renal or bladder urothelium and muscle developmental markers between control and experimental (mutant) mice, when there was none. The false qPCR data were reported in:

• PLoS 2013: Figure 2E

• AJPRP 2015: Figures 1E, 4C, 7G, 7J, 8F, 12A

• Manuscript: Figures 1C, 4C

• R01 DK104374-01A1: Figure 14E and text on pages 41, 42, 45

• R01 DK109682-01: Figures 10G and 11 and text on pages 43 and 45

Dr. Walker has entered into a Voluntary Settlement Agreement (Agreement) and has voluntarily agreed:

(1) To have his research supervised for a period of three (3) years, beginning on April 14, 2016; Respondent agrees that prior to submission of an application for U.S. Public Health Service (PHS) support for a research project on which the Respondent's participation is proposed and prior to Respondent's participation in any capacity on PHS-supported research, Respondent shall ensure that a plan for supervision of Respondent's duties is submitted to ORI for approval; the supervision plan must be designed to ensure the scientific integrity of Respondent's research contribution; Respondent agrees that he shall not participate in any PHS-supported research until such a supervision plan is submitted to and approved by ORI; Respondent agrees to maintain responsibility for compliance with the agreed upon supervision plan;

(2) that any institution employing him shall submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract;

(3) to exclude himself from serving in any advisory capacity to PHS including, but not limited to, service on any PHS advisory committee, board, and/or peer review committee, or as a consultant for period of three (3) years, beginning on April 14, 2016; and

(4) to the retraction and/or correction of the PLoS 2013 and AJPRP 2015 publications, as determined by the corresponding author.

FOR FURTHER INFORMATION CONTACT: Director, Office of Research Integrity, 1101 Wootton Parkway, Suite 750, Rockville, MD 20852, (240) 453-8200.

Kathryn Partin,
Director, Office of Research Integrity.

[FR Doc. 2016-11062 Filed 5-10-16; 8:45 am]

BILLING CODE 4150-31-P